DEPARTMENT OF COMMERCE

National Oceanic and Atmospheric Administration

RIN 0648-XW64

Pacific Fishery Management Council; Public Meetings

AGENCY: National Marine Fisheries Service (NMFS), National Oceanic and Atmospheric Administration (NOAA), Commerce.

ACTION: Notice of public meetings.

SUMMARY: The Pacific Council (Pacific Council) and its advisory entities will hold public meetings.

DATES: The Pacific Council and its advisory entities will meet June 10-17, 2010. The Pacific Council meeting will begin on Saturday, June 12, 2010 at 8 a.m., reconvening each day through Thursday, June 17, 2010. All meetings are open to the public, except a closed session will be held from 8 a.m. until 9 a.m. on Saturday, June 12 to address litigation and personnel matters. The Pacific Council will meet as late as necessary each day to complete its scheduled business.

ADDRESSES: The meetings will be held at the Crowne Plaza Hotel, 1221 Chess Drive, Foster City, CA 94404; telephone: (650) 570-5700.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council website, http://www.pcouncil.org for the current meeting location, proposed agenda, and meeting briefing materials.

SUPPLEMENTARY INFORMATION: The following items are on the Pacific Council agenda, but not necessarily in this order:

A. Call to Order

1. Opening Remarks and Introductions

2. Roll Call

3. Executive Director's Report

4. Approve Agenda

B. Groundfish Management

1. NMFS Report

2. Fishery Management Plan (FMP) Amendment 23, Annual Catch Limits and Accountability Measures

3. Tentative Adoption of Harvest Specifications, Rebuilding Plan Revisions, and Management Measures for 2011-12 Fisheries

4. Stock Assessment Planning for 2013-14 Fishery Guidance

5. Consideration of Inseason Adjustments

6. Regulatory Deeming for FMP Amendment 20 (Trawl Rationalization) and Amendment 21 (Intersector Allocation)

7. Final Adoption of Harvest Specifications, Rebuilding Plan Revisions, and Management Measures for 2011-12 Fisheries

C. Salmon Management

FMP Amendment 16, Annual Catch Limits and Accountability Measures

D. Habitat

Current Habitat Issues

E. Highly Migratory Species Management

1. Recommendations to International Fishery Management Organizations

2. FMP Amendment 2, Annual Catch Limits and Accountability Measures

3. Changes to Routine Management Measures for 2011-12

F. Coastal Pelagic Species Management

1. Pacific Mackerel Management for 2010-11

2. FMP Amendment 13, Annual Catch Limits and Accountability Measures

G. Administrative Matters

1. Approval of Council Meeting Minutes

2. Fiscal Matters

3. Membership Appointments and Council Operating Procedures

4. Future Council Meeting Agenda and Workload Planning

SCHEDULE OF ANCILLARY MEETINGS
Thursday, June 10, 2010 |
Regulatory Deeming Workgroup (Tentative) | 8 a.m
Salmon Technical Team | 8 a.m
Habit Committee | 8:30 a.m
Friday, June 11, 2010 |
Groundfish Management Team | 8 a.m
Highly Migratory Species Advisory Subpanel | 8 a.m
Highly Migratory Species Management Team | 8 a.m
Highly Migratory Species Advisory Subpanel | 8 a.m
Highly Migratory Species Management Team | 8 a.m
Regulatory Deeming Workgroup (Tentative) | 8 a.m
Salmon Technical Team | 8 a.m
Scientific and Statistical Committee | 8 a.m
Habitat Committee | 8:30 a.m
Budget Committee | 1:15 p.m
Saturday, June 12, 2010 |
California State Delegation | 7 a.m
Oregon State Delegation | 7 a.m
Washington State Delegation | 7 a.m
Groundfish Advisory Subpanel | 8 a.m
Groundfish Management Team | 8 a.m
Highly Migratory Species Advisory Subpanel | 8 a.m
Highly Migratory Species Management Team | 8 a.m
Salmon Technical Team | 8 a.m
Scientific and Statistical Committee | 8 a.m
Council Chair's Reception | 6 p.m
Sunday, June 13, 2010 |
California State Delegation | 7 a.m
Oregon State Delegation | 7 a.m
Washington State Delegation | 7 a.m
Coastal Pelagic Species Advisory Subpanel | 8 a.m
Coastal Pelagic Species Management Team | 8 a.m
Groundfish Advisory Subpanel | 8 a.m
Groundfish Management Team | 8 a.m
Enforcement Consultants | 4:30 p.m
Monday, June 14, 2010 |
California State Delegation | 7 a.m
Oregon State Delegation | 7 a.m
Washington State Delegation | 7 a.m
Coastal Pelagic Species Advisory Subpanel | 8 a.m
Coastal Pelagic Species Management Team | 8 a.m
Groundfish Advisory Subpanel | 8 a.m
Groundfish Management Team | 8 a.m
Enforcement Consultants | As Necessary
Tuesday, June 15, 2010 |
California State Delegation | 7 a.m
Oregon State Delegation | 7 a.m
Washington State Delegation | 7 a.m
Groundfish Advisory Subpanel | 8 a.m
Groundfish Management Team | 8 a.m
Enforcement Consultants | As Necessary
Wednesday, June 16, 2010 |
California State Delegation | 7 a.m
Oregon State Delegation | 7 a.m
Washington State Delegation | 7 a.m
Groundfish Advisory Subpanel | 8 a.m
Groundfish Management Team | 8 a.m
Enforcement Consultants | As Necessary
Thursday, June 17, 2010 |
California State Delegation | 7 a.m
Oregon State Delegation | 7 a.m
Washington State Delegation | 7 a.m
Groundfish Management Team | 8 a.m
Enforcement Consultants | As Necessary

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: May 21, 2010.
Tracey L. Thompson,
Acting Director, Office of Sustainable Fisheries, National Marine Fisheries Service.

[FR Doc. 2010-12623 Filed 5-25-10; 8:45 am]

BILLING CODE 3510-22-S